Proclamation 10603 of July 25, 2023

Anniversary of the Americans with Disabilities Act, 2023

By the President of the United States of America

A Proclamation

Thirty-three years ago, the Congress passed the Americans with Disabilities Act (ADA)—one of the most important civil rights laws in our history. Its tireless champion, Senator Tom Harkin of Iowa, celebrated with a speech on the United States Senate floor in American Sign Language. His remarks were not only a tribute to his brother, who was deaf, but a message to the millions of Americans with disabilities that, in this country, everyone is equal and deserves to be treated with dignity and respect. I was proud to co-sponsor that landmark law back then, and I am proud to celebrate its lasting legacy with a renewed push for opportunity and justice today.

It is hard for younger generations to imagine a world without the ADA, but before it existed, if you were disabled, stores could turn you away and employers could refuse to hire you. Transit was largely inaccessible. America simply was not built for all Americans, but courageous activists pushed to change that. In 1973, the Congress passed the landmark Rehabilitation Act, banning discrimination by any federally funded entity. Then, 17 years later, a bipartisan group of legislators persevered in passing the ADA, banning discrimination against people with disabilities in most areas of public life, from the workplace and public schools to public transit and telecommunications.

The ADA has had a profound impact, but we still have much more work to do. Disabled Americans are still three times less likely to have a job; and when they do, they often earn less for doing the same work. Voting locations, transit, and public spaces are too often inaccessible. And we need to continue building a culture that not only protects disability rights but also celebrates disability pride.

My Administration has worked hard to build on the ADA's foundation. Soon after I came into office, I signed an Executive Order advancing opportunities for people with disabilities in the Federal workforce; and we are helping State and local governments, employers, and nonprofits tap Federal funds to hire more Americans with disabilities as well. We ended the use of unjust sub-minimum wages in Federal contracts, and the Department of Labor is working around the clock to protect the rights of disabled workers. The Department of Justice and Department of Health and Human Services also developed guidance for emergency responders to better protect the rights of people with disabilities. And to ensure that every American has the opportunity to exercise their fundamental right to vote, I signed an Executive Order directing agencies to make voter registration and information about voting resources more accessible.

We are also rebuilding our Nation's infrastructure and making transit and public spaces more accessible. Our Bipartisan Infrastructure Law makes our Nation's biggest investment ever in accessible transit. This includes $1.75 billion to repair and improve accessibility in transit stations across America—including in some of our oldest and busiest railways. This historic investment also expands access to high-speed Internet, so millions of disabled Americans can work, study, and stay connected from home. The Department of Transportation is working to improve air travel for all, including for people who use wheelchairs. And the United States Access Board is developing new guidelines under the ADA that will improve the accessibility of sidewalks, streets, crosswalks, and other public rights of way.

We also know the isolation and loss of the pandemic hit the disability community especially hard. That is a big reason why we provided tens of billions of dollars to States to expand Medicaid—an essential lifeline for 21 million Americans, including many in the disability community. And last month, I worked with members of the Congress to reach a bipartisan budget deal that protects Social Security, Medicare, and Medicaid. I also signed an Executive Order to improve jobs and support for caregivers and provide more care options for people with disabilities and their families. I continue to urge States that have not yet expanded Medicaid under the Affordable Care Act to at least cover residents who are currently locked out. And I call on the Congress to improve and expand home- and community-based services so more seniors and people with disabilities can live independently in their own homes.

The ADA is an essential foundation to this continued work—a reminder that we can still do big things in America when we come together. For over 61 million disabled Americans, it is much more than a law—it is the key to equality, opportunity, and independence. And for our country, it is a testament to our character and commitment to keep pushing to finally realize the full promise of America for all Americans.

NOW, THEREFORE, I, JOSEPH R. BIDEN JR., President of the United States of America, by virtue of the authority vested in me by the Constitution and the laws of the United States, do hereby proclaim July 26, 2023, as the Anniversary of the Americans with Disabilities Act. I encourage Americans to celebrate the 33rd year of this defining moment in Civil Rights law and the essential contributions of individuals with disabilities to our Nation.

IN WITNESS WHEREOF, I have hereunto set my hand this twenty-fifth day of July, in the year of our Lord two thousand twenty-three, and of the Independence of the United States of America the two hundred and forty-eighth.

[FR Doc. 2023-16212

Filed 7-27-23; 8:45 am]

Billing code 3395-F3-P